DEPARTMENT OF COMMERCE

National Oceanic and Atmospheric Administration

RIN 0648-XD047

Fisheries of the Caribbean, Gulf of Mexico, and South Atlantic; Generic Accountability Measure and Dolphin Allocation Amendment

AGENCY: National Marine Fisheries Service (NMFS), National Oceanic and Atmospheric Administration (NOAA), Commerce.

ACTION: Notice announcing the preparation of an environmental assessment (EA).

SUMMARY: NMFS, Southeast Region, in collaboration with the South Atlantic Fishery Management Council (Council), is preparing an EA for the Generic Accountability Measure (AM) and Dolphin Allocation Amendment. This notice is intended to inform the public of the change from the preparation of a draft environmental impact statement (DEIS) to an EA for this amendment. The Generic AM and Dolphin Allocation Amendment would amend the Fishery Management Plans (FMPs) for the Dolphin and Wahoo Fishery of the Atlantic, the Snapper-Grouper Fishery of the South Atlantic Region, and the Golden Crab Fishery of the South Atlantic Region. The Generic AM and Dolphin Allocation Amendment will consider alternative AMs for snapper-grouper species and golden crab, as well as alternatives to modify existing commercial and recreational sector allocations for dolphin.

FOR FURTHER INFORMATION CONTACT: Kate Michie, Southeast Regional Office, telephone: 727-824-5305, or email: kate.michie@noaa.gov.

SUPPLEMENTARY INFORMATION: A NOI to prepare a DEIS for the Generic AM and Dolphin Allocation Amendment was published on January 31, 2014 (79 FR 5379). The NOI indicated the amendment would be supported by an environmental impact statement, which was the preliminary determination at the time the original purpose and need of the amendment was drafted. When the Council first requested development of this amendment the allocation applied to dolphin and snapper-grouper species.

The Council subsequently removed snapper-grouper species from the allocation action, which left only dolphin allocations and AM modifications for snapper-grouper species and golden crab as amendment actions. A reassessment of the actions in the amendment relative to the National Environmental Policy Act indicates an EA is appropriate. Therefore, a DEIS will not be prepared for the Generic AM and Dolphin Allocation Amendment at this time.

The EA for the Generic AM and Dolphin Allocation Amendment would consider alternatives to modify existing AMs for snapper-grouper species and golden crab to provide consistency among species, and ensure overfishing does not occur. The EA would also consider alternatives to modify existing sector allocations for dolphin.

The Council held public hearings in August 2014 to discuss the actions included in the Generic AM and Dolphin Allocation Amendment.

Authority: 16 U.S.C. 1801 et seq.

Dated: August 22, 2014.
Alan D. Risenhoover,
Director, Office of Sustainable Fisheries, National Marine Fisheries Service.

[FR Doc. 2014-20437 Filed 8-27-14; 8:45 am]

BILLING CODE 3510-22-P